DEPARTMENT OF ENERGY

Federal Energy Regulatory Commission

Combined Notice of Filings #1

Take notice that the Commission received the following exempt wholesale generator filings:

Docket Numbers: EG20-154-000.

Applicants: Weatherford Wind, LLC.

Description: Notice of Self-Certification of Exempt Wholesale Generator Status of Weatherford Wind, LLC.

Filed Date: 5/8/20.

Accession Number: 20200508-5288.

Comments Due: 5 p.m. ET 5/29/20.

Take notice that the Commission received the following electric rate filings:

Docket Numbers: ER20-1792-000.

Applicants: Horizon West Transmission, LLC.

Description: § 205(d) Rate Filing: Horizon West Transmission, LLC Administrative Clean-Up Filing to be effective 4/24/2019.

Filed Date: 5/8/20.

Accession Number: 20200508-5261.

Comments Due: 5 p.m. ET 5/29/20.

Docket Numbers: ER20-1793-000.

Applicants: PJM Interconnection, L.L.C.

Description: § 205(d) Rate Filing: Original ISA, SA No. 5633 & ICSA, SA No. 5634; Queue No. AC2-088/AD1-136 to be effective 4/9/2020.

Filed Date: 5/8/20.

Accession Number: 20200508-5263.

Comments Due: 5 p.m. ET 5/29/20.

Docket Numbers: ER20-1794-000.

Applicants: Midcontinent Independent System Operator, Inc.

Description: Request for Waiver of Tariff Provisions, et al. of the Midcontinent Independent System Operator, Inc.

Filed Date: 5/8/20.

Accession Number: 20200508-5312.

Comments Due: 5 p.m. ET 5/15/20.

Docket Numbers: ER20-1795-000.

Applicants: Pacific Gas and Electric Company.

Description: Petition for Limited Waiver of Pacific Gas and Electric Company.

Filed Date: 5/8/20.

Accession Number: 20200508-5320.

Comments Due: 5 p.m. ET 5/29/20.

Docket Numbers: ER20-1796-000.

Applicants: Entergy Arkansas, LLC, Entergy Louisiana, LLC, Entergy Mississippi, LLC, Entergy New Orleans, LLC, Entergy Texas, Inc.

Description: Compliance Filing with Order No. 864 of Entergy Arkansas, LLC, et al.

Filed Date: 5/8/20.

Accession Number: 20200508-5332.

Comments Due: 5 p.m. ET 5/29/20.

Docket Numbers: ER20-1797-000.

Applicants: Alabama Power Company.

Description: § 205(d) Rate Filing: EDP Renewables North America (Shelby Solar) LGIA Filing to be effective 4/27/2020.

Filed Date: 5/11/20.

Accession Number: 20200511-5054.

Comments Due: 5 p.m. ET 6/1/20.

Docket Numbers: ER20-1798-000.

Applicants: Alabama Power Company.

Description: § 205(d) Rate Filing: EDP Renewables North America (Dodge Solar) LGIA Filing to be effective 4/27/2020.

Filed Date: 5/11/20.

Accession Number: 20200511-5055.

Comments Due: 5 p.m. ET 6/1/20.

Docket Numbers: ER20-1799-000.

Applicants: Techren Solar III LLC.

Description: Baseline eTariff Filing: Application For Market Based Rate Authority to be effective 6/30/2020.

Filed Date: 5/11/20.

Accession Number: 20200511-5089.

Comments Due: 5 p.m. ET 6/1/20.

Docket Numbers: ER20-1800-000.

Applicants: Techren Solar IV LLC.

Description: Baseline eTariff Filing: Application For Market Based Rate Authority to be effective 6/30/2020.

Filed Date: 5/11/20.

Accession Number: 20200511-5091.

Comments Due: 5 p.m. ET 6/1/20.

Docket Numbers: ER20-1801-000.

Applicants: Techren Solar V LLC.

Description: Baseline eTariff Filing: Application For Market Based Rate Authority to be effective 6/30/2020.

Filed Date: 5/11/20.

Accession Number: 20200511-5095.

Comments Due: 5 p.m. ET 6/1/20.

Docket Numbers: ER20-1802-000.

Applicants: Entergy Louisiana, LLC.

Description: Request for Limited Waiver of Entergy Louisiana, LLC.

Filed Date: 5/11/20.

Accession Number: 20200511-5096.

Comments Due: 5 p.m. ET 6/1/20.

Docket Numbers: ER20-1803-000.

Applicants: Midcontinent Independent System Operator, Inc.

Description: § 205(d) Rate Filing: 2020-05-11_SA 3493 METC-River Fork Solar GIA (J806) to be effective 4/27/2020.

Filed Date: 5/11/20.

Accession Number: 20200511-5116.

Comments Due: 5 p.m. ET 6/1/20.

Docket Numbers: ER20-1804-000.

Applicants: Tri-State Generation and Transmission Association, Inc.

Description: § 205(d) Rate Filing: Amendment to Service Agreement No. 864 to be effective 4/30/2020.

Filed Date: 5/11/20.

Accession Number: 20200511-5129.

Comments Due: 5 p.m. ET 6/1/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2020.
Nathaniel J. Davis, Sr.,
Deputy Secretary.

[FR Doc. 2020-10474 Filed 5-14-20; 8:45 am]

BILLING CODE 6717-01-P